DEPARTMENT OF TRANSPORTATION

National Highway Traffic Safety Administration

[Docket No. NHTSA-2016-0140; Notice 1]

General Motors, LLC, Receipt of Petition for Decision of Inconsequential Noncompliance

AGENCY: National Highway Traffic Safety Administration (NHTSA), Department of Transportation (DOT).

ACTION: Receipt of petition.

SUMMARY: General Motors, LLC (GM), has determined that certain model year (MY) 2014-2016 GM motor vehicles do not fully comply with Federal Motor Vehicle Safety Standard (FMVSS) No. 110, Tire Selection and Rims and Motor Home/Recreation Vehicle Trailer Load Carrying Capacity Information for Motor Vehicles with a GVWR of 4,536 kilograms (10,000 pounds) or Less. GM filed a noncompliance report dated December 6, 2016, and revised it on April 6, 2017. GM also petitioned NHTSA on January 5, 2017, and submitted a revised petition on April 7, 2017, for a decision that the subject noncompliance is inconsequential as it relates to motor vehicle safety.

DATES: The closing date for comments on the petition is June 12, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: General Motors, LLC (GM), has determined that certain model year (MY) 2014-2016 GM motor vehicles do not fully comply with paragraph S4.4.2(e) of Federal Motor Vehicle Safety Standard (FMVSS) No. 110, Tire Selection and Rims and Motor Home/Recreation Vehicle Trailer Load Carrying Capacity Information for Motor Vehicles with a GVWR of 4,536 kilograms (10,000 pounds) or Less. GM filed a noncompliance report dated December 6, 2016, and revised it on April 6, 2017, pursuant to 49 CFR part 573, Defect and Noncompliance Responsibility and Reports. GM also petitioned NHTSA on January 5, 2017, and submitted a revised petition on April 7, 2017, pursuant to 49 U.S.C. 30118(d) and 30120(h) and 49 CFR part 556, for an exemption from the notification and remedy requirements of 49 U.S.C. Chapter 301 on the basis that this noncompliance is inconsequential as it relates to motor vehicle safety.

This notice of receipt of GM's petition is published under 49 U.S.C. 30118 and 30120 and does not represent any agency decision or other exercise of judgment concerning the merits of the petition.

II. Vehicles Involved: Approximately 130,088 of the following MY 2014-2016 GM motor vehicles manufactured between August 7, 2014, and June 15, 2015, are potentially involved:

• 2015-2016 Cadillac Escalade

• 2015-2016 Cadillac Escalade ESV

• 2015-2015 Cadillac SRX

• 2015-2016 Chevrolet Tahoe

• 2015-2016 GMC Yukon

• 2015-2016 GMC Yukon XL

• 2014-2015 GMC Sierra

• 2014-2015 Chevrolet Silverado

• 2015-2016 Chevrolet Suburban

III. Noncompliance: GM explains that the noncompliance is that the subject vehicles are equipped with wheels supplied by Citic Dicastal Co. LTD (Dicastal) that are marked with unregistered date of manufacture marks that were not previously disclosed to NHTSA and therefore, do not comply with paragraph S4.4.2(e) of FMVSS No. 110.

IV. Rule Text: Paragraph S4.4.2(e) of FMVSS No. 110 states:

S4.4.2 Rim markings for vehicles other than passenger cars. Each rim or, at the option of the manufacturer in the case of a single-piece wheel, each wheel disc shall be marked with the information listed in S4.4.2 (a) through (e), in lettering not less than 3 millimeters in height, impressed to a depth or, at the option of the manufacturer, embossed to a height of not less than 0.125 millimeters . . .

(e) The month, day and year or the month and year of manufacture, expressed either numerically or by use of a symbol, at the option of the manufacturer. For example: “September 4, 2001” may be expressed numerically as: “90401”, “904, 01” or “01, 904”; “September 2001” may be expressed as: “901”, “9, 01” or “01, 9”.

i. Any manufacturer that elects to express the date of manufacture by means of a symbol shall notify NHTSA in writing of the full names and addresses of all manufacturers and brand name owners utilizing that symbol and the name and address of the trademark owner of that symbol, if any. The notification shall describe in narrative form and in detail how the month, day, and year or the month and year are depicted by the symbol. Such description shall include an actual size graphic depiction of the symbol, showing and/or explaining the interrelationship of the component parts of the symbol as they will appear on the rim or single piece of wheel disc, including dimensional specifications, and where the symbol will be located on the rim or single piece wheel disc. The notification shall be received by NHTSA not less than 60 calendar days before the first use of the symbol . . .

V. Summary of GM's Petition: GM described the subject noncompliance and stated its belief that the noncompliance is inconsequential as it relates to motor vehicle safety.

In support of its petition, GM submitted the following reasons:

(a) This is not a safety issue: Neither the marking method nor the timely disclosure of it to NHTSA have any effect on the operation, performance, or safety of the affected vehicles. For example, the required date marks do not serve any safety purpose and do not provide any safety benefit. The purpose of the date mark is traceability in the event a future wheel defect is discovered. For example, if it were discovered that Dicastal wheels manufactured in January 2015 had a defect (e.g., high porosity in the casting) a dealer could use the date marking to determine if a given wheel was in the suspect population.

Importantly, here, all the affected wheels on GM's vehicles have accurate date markings and can be traced in the event of a defect. Except for a small percentage of affected wheels, the markings have all been disclosed to NHTSA. Disclosed or not, however, GM and its dealers can still trace the wheels because the unregistered date marks contain sufficient information to clearly identify the month and year of manufacture. Therefore, the issue here is more of a procedural one, and the fact that these date marks were not registered with NHTSA in a timely manner presents no substantive safety issue and is inconsequential to motor vehicle safety.

(b) NHTSA has granted similar requests: Granting this petition would be consistent with NHTSA's past decisions involving wheel markings required by FMVSS No. 110. For example, NHTSA recently granted a petition for inconsequential treatment related to a noncompliance with FMVSS No. 110's requirement that the source of the published nominal dimensions be marked on the rims. In that case, NHTSA agreed that the incorrect rim marking had no effect on the performance and safety of the tire/rim combination. Here, the connection to safety is even more attenuated because the markings on the wheels are correct, they were just not disclosed to NHTSA in a timely manner. For at least the same reasons NHTSA found incorrect rim markings inconsequential to vehicle safety, GM requests that NHTSA come to the same conclusion regarding the correct, but unregistered, markings in this case as being inconsequential to motor vehicle safety.

(c) The issue has been corrected: Dicastal corrected the issue in production on April 25, 2015, when it stopped using unregistered date marks. Since then, the manufacture date marks on GM's Dicastal wheels have been properly disclosed to NHTSA and comply with FMVSS No. 110.

GM concluded by expressing the belief that the subject noncompliance is inconsequential as it relates to motor vehicle safety, and that its petition to be exempted from providing notification of the noncompliance, as required by 49 U.S.C. 30118, and a remedy for the noncompliance, as required by 49 U.S.C. 30120, should be granted.

To view GM's petition, pictures and analyses in its entirety you can visit https://www.regulations.gov by following the online instructions for accessing the dockets and by using the docket ID number for this petition shown in the heading of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that GM no longer controlled at the time it determined that the noncompliance existed. However, any decision on this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8)

Jeffrey M. Giuseppe,
Director, Office of Vehicle Safety Compliance.

[FR Doc. 2017-09497 Filed 5-10-17; 8:45 am]

BILLING CODE 4910-59-P